DEPARTMENT OF THE TREASURY

Submission for OMB Review; Comment Request

October 3, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 13, 2000 to be assured of consideration.

Internal Revenue Service (IRS)

OMB Number: 1545-1546.

Revenue Procedure Number: Revenue Procedure 97-33.

Type of Review: Extension.

Title: EFTPS (Electronic Federal Tax Payment System).

Description: Some taxpayers are required by regulations issued under § 6302(h) of the Internal Revenue Code to make Federal Tax Deposits (FTDs) using the Electronic Federal Tax Payment System (EFTPS). Other taxpayers may choose to voluntarily participate in EFTPS. EFTPS requires that a taxpayer complete an enrollment form to provide the information the IRS needs to properly credit the taxpayer's account. Revenue 97-33 provides procedures and information that will help taxpayers to electronically make FTDs and tax payments through EFTPS.

Respondents: Business or other for-profit, Individuals or households, Not-for-profit institutions, Farms, Federal Government, State, Local or Tribal Government.

Estimated Number of Recordkeepers: 557,243.

Estimated Burden Hours Per Recordkeeper: 30 minutes.

Frequency of Response: On occasion, Weekly, Monthly, Quarterly, Semi-annually, Annually, Biennially.

Estimated Total Recordkeeping Burden: 278,622 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-26295 Filed 10-12-00; 8:45 am]

BILLING CODE 4830-01-P